DEPARTMENT OF ENERGY

Federal Energy Regulatory Commission

Combined Notice of Filings #1

Take notice that the Commission received the following exempt wholesale generator filings:

Docket Numbers: EG13-25-000.

Applicants: NRG Energy, Inc.

Description: Self-Certification of EG or FC of NRG Energy, Inc for Petra Nova Power I LLC.

Filed Date: 4/4/13.

Accession Number: 20130404-5131.

Comments Due: 5 p.m. ET 4/25/13.

Take notice that the Commission received the following electric rate filings:

Docket Numbers: ER12-817-002.

Applicants: Midwest Independent Transmission System Operator, Inc.

Description: 04-08-2013 Resource Adequacy 2013 Comp Filing to be effective 2/27/2013.

Filed Date: 4/8/13.

Accession Number: 20130408-5126.

Comments Due: 5 p.m. ET 4/29/13.

Docket Numbers: ER13-5-001.

Applicants: ITC Midwest LLC.

Description: ITC Midwest LLC submits Compliance Filing of ITC Midwest LLC to be effective 3/11/2013.

Filed Date: 4/9/13.

Accession Number: 20130409-5102.

Comments Due: 5 p.m. ET 4/30/13.

Docket Numbers: ER13-954-001.

Applicants: Northern States Power Company, a Wisconsin corporation, Northern States Power Company, a Minnesota corporation.

Description: 2013 Interchange Agreement Supplement to be effective 1/1/2013.

Filed Date: 4/8/13.

Accession Number: 20130408-5085.

Comments Due: 5 p.m. ET 4/29/13.

Docket Numbers: ER13-1035-001.

Applicants: Palmco Power CA, LLC.

Description: Palmco Power CA FERC Electric Tariff to be effective 5/9/2013.

Filed Date: 4/9/13.

Accession Number: 20130409-5023.

Comments Due: 5 p.m. ET 4/30/13.

Docket Numbers: ER13-1253-000.

Applicants: Southern California Edison Company.

Description: Revised Formula Rate: Non-Transmission Depreciation Rates to be effective 1/1/2012.

Filed Date: 4/8/13.

Accession Number: 20130408-5144.

Comments Due: 5 p.m. ET 4/29/13.

Docket Numbers: ER13-1254-000.

Applicants: Duke Energy Carolinas, LLC.

Description: Duke Energy Carolinas, LLC submits Joint OATT Real Power Loss (2013) to be effective 5/1/2013.

Filed Date: 4/9/13.

Accession Number: 20130409-5051.

Comments Due: 5 p.m. ET 4/30/13.

Take notice that the Commission received the following public utility holding company filings:

Docket Numbers: PH13-15-000.

Applicants: Centerbridge Partners, L.P.

Description: Centerbridge Partners, L.P. submits FERC-65-B Waiver Notification.

Filed Date: 4/8/13.

Accession Number: 20130408-5191.

Comments Due: 5 p.m. ET 4/29/13.

Take notice that the Commission received the following electric reliability filings:

Docket Numbers: RR13-3-000.

Applicants: North American Electric Reliability Corporation.

Description: Petition of the North American Electric Reliability Corporation for Approval of Revisions to Appendix 2 and Appendix 4D of the NERC Rules of Procedure.

Filed Date: 4/8/13.

Accession Number: 20130408-5193.

Comments Due: 5 p.m. ET 4/29/13.

Docket Numbers: RR13-4-000.

Applicants: North American Electric Reliability Corporation.

Description: Petition of North American Electric Reliability Corporation for Approval of Amendments to the Delegation Agreement with Texas Reliability Entity, Inc.—Amendments to Texas Reliability Entity, Inc.'s Bylaws.

Filed Date: 4/9/13.

Accession Number: 20130409-5096.

Comments Due: 5 p.m. ET 4/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2013.
Nathaniel J. Davis, Sr.,
Deputy Secretary.

[FR Doc. 2013-08864 Filed 4-15-13; 8:45 am]

BILLING CODE 6717-01-P